DEPARTMENT OF COMMERCE

Foreign-Trade Zones Board

[Order No. 1491]

Grant of Authority for Subzone Status, Sony Electronics, Inc. (Audio, Video, Communications and Information Technology Products and Accessories); Los Angeles, Carson and Lynwood, CA

Pursuant to its authority under the Foreign-Trade Zones Act, of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR Part 400) provide for the establishment of special-purpose subzones when existing zone facilities cannot serve the specific use involved, and when the activity results in a significant public benefit and is in the public interest;

Whereas, the Board of Harbor Commissioners of the City of Los Angeles, grantee of Foreign-Trade Zone 202, has made application to the Board for authority to establish a special-purpose subzone at the warehouse and distribution facilities of Sony Electronics, Inc., located in Los Angeles, Carson and Lynwood, California (FTZ Docket 16-2006, filed 4/28/06);

Whereas, notice inviting public comment was given in the Federal Register (71 FR 26923-26924, 5/9/06); and

Whereas, the Board adopts the findings and recommendations of the examiner's report, and finds that the requirements of the FTZ Act and the Board's regulations are satisfied, and that approval of the application is in the public interest;

Now, therefore, the Board hereby grants authority for subzone status for activity related to audio, video, communications and information-technology products and accessories warehousing and distribution at the facilities of Sony Electronics, Inc., located in Los Angeles, Carson and Lynwood, California (Subzone 202E), as described in the application and Federal Register notice, and subject to the FTZ Act and the Board's regulations, including § 400.28.

Signed at Washington, DC, this 21st day of November, 2006.
David M. Spooner,
Assistant Secretary of Commerce for Import Administration, Alternate Chairman, Foreign-Trade Zones Board.
Attest:
Andrew McGilvray,
Acting Executive Secretary.

[FR Doc. E6-20288 Filed 11-29-06; 8:45 am]

BILLING CODE 3510-DS-P